DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of existing safety standards.

SUMMARY: Under section 101 of the Federal Mine Safety and Health Act of 1977, the Secretary of Labor (Secretary) may allow the modification of the application of an existing safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION CONTACT: Petitions and copies of the final decisions are available for examination by the public in the Office of Standards, Regulations, and Variances, MSHA, Room 627, 4015 Wilson Boulevard, Arlington, Virginia 22203. Contact Barbara Barron at 703-235-1910.

Dated at Arlington, Virginia this 16th day of May 2001.
David L. Meyer,
Director, Office of Standards, Regulations, and Variances.

Affirmative Decisions on Petitions for Modification

Petitioner: Sidney Coal Company, Inc.

[Docket No.: M-2000-002-C]

FR Notice: 65 FR 10563.

Regulation Affected: 30 CFR 75.1902(d)(1).

Summary of Findings: Petitioner's proposal is to have its underground fuels storage facilities remain at the present location and make the following changes and adjustments for safety concerns: (i) Offset the fuel tank 35 feet from any track or transportation; (ii) maintain the storage facility out of direct line of flatcars, mantrips, and other equipment that is moving up or down the slope; (iii) ventilate the facility directly into the return air course and equip the facility with a fire suppression system and other safety features, and fireproof and inspect the facility on a daily basis, and (iv) add a carbon monoxide sensor. This is considered an acceptable alternative method for the Mine #1. MSHA grants the petition for modification for a permanent underground diesel fuel storage facility installed within 100 feet of a slope in the Mine #1 with conditions.

Petitioner: Europa Coal Company.

[Docket No.: M-2000-013-C]

FR Notice: 65 FR 16966.

Regulation Affected: 30 CFR 75.1002.

Summary of Findings: Petitioner's proposal is to use a 2,400 volt Joy 14CM continuous miner instead of a 1,000 volt continuous miner inby the last open crosscut and within 150 feet from pillar workings. This is considered an acceptable alternative method for the Europa Mine. MSHA grants the petition for modification for the Europa Mine with conditions.

Petitioner: Big Ridge, Inc. (Formerly Sugar Camp Coal, LLC).

[Docket No.: M-2000-021-C]

FR Notice: 65 FR 19928.

Regulation Affected: 30 CFR 75.350.

Summary of Findings: Petitioner's proposal is to use air coursed through belt haulage entries to ventilate active working places. The petitioner proposes to install a low-level carbon monoxide detection system in the supply road with branches extended to the belt line at certain locations as an early warning fire detection system. This is considered an acceptable alternative method for the Willow Lake Portal Mine. MSHA grants the petition for modification for the Willow Lake Portal Mine to allow air coursed through conveyor belt entries to be used to ventilate working places with conditions.

Petitioner: West Ridge Resources, Incorporated.

[Docket No.: M-2000-025-C]

FR Notice: 65 FR 19928.

Regulation Affected: 30 CFR 75.1909(b)(6).

Summary of Findings: Petitioner's proposal is to: (i) Install gear lockout devices on its diesel grader to limit the speed to a maximum of 10 miles per hour when operating the grader in an underground coal mine or on the surface of an underground coal mine; and (ii) provide training to every grader operator on the proper techniques for lowering the blade to restrict the speed and to stop the grader, on the proper gear selection for grading, and on the proper speed for grading. This is considered an acceptable alternative method for the West Ridge Mine. MSHA grants the petition for modification for the West Ridge mine with conditions.

Petitioner: Andalex Resources, Incorporated.

[Docket No.: M-2000-026-C]

FR Notice: 65 FR 19928.

Regulation Affected: 30 CFR 75.1909(b)(6).

Summary of Findings: Petitioner's proposal is to: (i) Install gear lockout devices on its diesel grader to limit the speed to a maximum of 10 miles per hour when operating the grader in an underground coal mine or on the surface of an underground coal mine; and (ii) provide training to every grader operator on the proper techniques for lowering the blade to restrict the speed and to stop the grader, on the proper gear selection for grading, and on the proper speed for grading. This is considered an acceptable alternative method for the Aberdeen Mine and Pinnacle Mine. MSHA grants the petition for modification for the Aberdeen Mine and Pinnacle Mine with conditions.

Petitioner: Elk Run Coal Company, Inc.

[Docket No.: M-2000-028-C]

FR Notice: 65 FR 31611.

Regulation Affected: 30 CFR 75.1002.

Summary of Findings: Petitioner's proposal is to use continuous mining machines with nominal voltage not to exceed 2,300 volts. This is considered an acceptable alternative method for the White Knight Mine. MSHA grants the petition for modification for the White Knight Mine to use 2,400-volt continuous miner system(s) with conditions.

Petitioner: B & B Anthracite Coal Company.

[Docket No.: M-2000-029-C]

FR Notice: 65 FR 31611.

Regulation Affected: 30 CFR 49.2(b).

Summary of Findings: Petitioner's proposal is to reduce its mine rescue teams to two teams with three members each and one alternate who serves both teams, instead of having two mine rescue teams with five members and one alternate. This is considered an acceptable alternative method for the Rock Ridge Slope Mine. MSHA grants the petition for modification for the Rock Ridge Slope Mine with conditions.

Petitioner: West Ridge Resources, Inc.

[Docket No.: M-2000-030-C]

FR Notice: 65 FR 31611.

Regulation Affected: 30 CFR 75.500(d).

Summary of Findings: Petitioner's proposal is to use non-permissible low voltage or battery powered electronic testing and diagnostic equipment in or inby the last open crosscut. This is considered an acceptable alternative method for the West Ridge Mine. MSHA grants the petition for modification for the West Ridge Mine with conditions.

Petitioner: Freeman United Coal Mining Company.

[Docket No.: M-2000-037-C]

FR Notice: 65 FR 31609.

Regulation Affected: 30 CFR 75.1909(b)(6).

Summary of Findings: Petitioner's proposal is to operate its diesel-powered road grader without front wheel brakes. The petitioner proposes to operate its diesel grader at a maximum speed of 10 miles per hour, lower the grader blade (mold board) to increase stopping capability in emergencies, and provide training for the grader operators on how to recognize appropriate levels of speed for different road and slope conditions. This is considered an acceptable alternative method for the Crown II Mine. MSHA grants the petition for modification for the Crown II Mine with conditions.

Petitioner: Neumeister Coal Company.

[Docket No.: M-2000-038-C]

FR Notice: 65 FR 31610.

Regulation Affected: 30 CFR 49.2(b).

Summary of Findings: Petitioner's proposal is to reduce its mine rescue teams to two teams with three members each and one alternate who serves both teams, instead of having two mine rescue teams with five members and one alternate. This is considered an acceptable alternative method for the No. 2 Slope Mine. MSHA grants the petition for modification for the No. 2 Slope Mine with conditions.

Petitioner: Tito Coal.

[Docket No.: M-2000-039-C]

FR Notice: 65 FR 31610.

Regulation Affected: 30 CFR 49.2(b).

Summary of Findings: Petitioner's proposal is to reduce its mine rescue teams to two teams with three members each and one alternate who serves both teams, instead of having two mine rescue teams with five members and one alternate. This is considered an acceptable alternative method for the Whites Vein Mine. MSHA grants the petition for modification for the Whites Vein Slope Mine with conditions.

FR Notice: 65 FR 40141.

Petitioner: Bowie Resources, Ltd.

[Docket No.: M-2000-048-C]

Regulation Affected: 30 CFR 75.901(a).

Summary of Findings: Petitioner's proposal is to use a 460 KW, 480-volt wye connected diesel-powered generator for utility power and to move and operate electrically powered mobile equipment and stationary equipment throughout the mine. This is considered an acceptable alternative method for the Bowie #2 Mine. MSHA grants the petition for modification for the 480-volt, three-phase, 460KW diesel-powered generator (DPG) set, Serial No. 26630-12/99, supplying power to a 400-KVA three-phase auto-transformer and three-phase 480-, and 995-volt power circuits for the Bowie #2 Mine with conditions.

FR Notice: 65 FR 40141.

Petitioner: Bowie Resources, Ltd.

[Docket No.: M-2000-049-C]

Regulation Affected: 30 CFR 75.500(d).

Summary of Findings: Petitioner's proposal is to use non-permissible low voltage or battery powered electronic testing and diagnostic equipment in or inby the last open crosscut. This is considered an acceptable alternative method for the Bowie #2 Mine. MSHA grants the petition for modification for the Bowie #2 Mine with conditions.

FR Notice: 65 FR 40141.

Petitioner: Bowie Resources, Ltd.

[Docket No.: M-2000-050-C]

Regulation Affected: 30 CFR 75.1002-1(a).

Summary of Findings: Petitioner's proposal is to use non-permissible low voltage or battery powered electronic testing and diagnostic equipment within 150 feet of pillar workings. This is considered an acceptable alternative method for the Bowie #2 Mine. MSHA grants the petition for modification for the Bowie #2 Mine under controlled conditions and upon compliance with the terms and conditions in the Proposed Decision and Order.

FR Notice: 65 FR 40141.

Petitioner: Alex Energy, Inc.

[Docket No.: M-2000-051-C]

Regulation Affected: 30 CFR 75.1002.

Summary of Findings: Petitioner's proposal is to use high-voltage longwall mining equipment, with the nominal voltage of longwall circuits not to exceed 4,160 volts. This is considered an acceptable alternative method for the Jerry Fork Eagle Mine. MSHA grants the petition for modification for the Jerry Fork Eagle Mine with conditions.

FR Notice: 65 FR 40141.

Petitioner: Rustler Coal Company.

[Docket No.: M-2000-053-C]

Regulation Affected: 30 CFR 49.2(b).

Summary of Findings: Petitioner's proposal is to reduce its mine rescue teams to two teams with three members each and one alternate who serves both teams, instead of having two mine rescue teams with five members and one alternate. This is considered an acceptable alternative method for the Orchard Slope Mine. MSHA grants the petition for modification for the Orchard Slope Mine with conditions.

FR Notice: 65 FR 40140.

Petitioner: M & H Coal Company.

[Docket No.: M-2000-057-C]

Regulation Affected: 30 CFR 49.2(b).

Summary of Findings: Petitioner's proposal is to reduce its mine rescue teams to two teams with three members each and one alternate who serves both teams, instead of having two mine rescue teams with five members and one alternate. This is considered an acceptable alternative method for the Mercury Slope Mine. MSHA grants the petition for modification for the Mercury Slope Mine with conditions.

FR Notice: 65 FR 40140.

Petitioner: UAE CoalCorp Associates.

[Docket No.: M-2000-058-C]

Regulation Affected: 30 CFR 49.2(b).

Summary of Findings: Petitioner's proposal is to reduce its mine rescue teams to two teams with three members each and one alternate who serves both teams, instead of having two mine rescue teams with five members and one alternate. This is considered an acceptable alternative method for the Harmony Mine. MSHA grants the petition for modification for the Harmony Mine with conditions.

FR Notice: 65 FR 40140.

Petitioner: M & M Coal Company.

[Docket No.: M-2000-059-C]

Regulation Affected: 30 CFR 49.2(b).

Summary of Findings: Petitioner's proposal is to reduce its mine rescue teams to two teams with three members each and one alternate who serves both teams, instead of having two mine rescue teams with five members and one alternate. This is considered an acceptable alternative method for the LV #3 Vein Slope Mine. MSHA grants the petition for modification for the LV #3 Vein Slope Mine with conditions.

FR Notice: 65 FR 40140.

Petitioner: L Coal Company.

[Docket No.: M-2000-060-C]

Regulation Affected: 30 CFR 49.2(b).

Summary of Findings: Petitioner's proposal is to reduce its mine rescue teams to two teams with three members each and one alternate who serves both teams, instead of having two mine rescue teams with five members and one alternate. This is considered an acceptable alternative method for the Lenig Tunnel Mine. MSHA grants the petition for modification for the Lenig Tunnel Mine with conditions.

FR Notice: 65 FR 40140.

Petitioner: A. L. Coal Company.

[Docket No.: M-2000-061-C]

Regulation Affected: 30 CFR 49.2(b).

Summary of Findings: Petitioner's proposal is to reduce its mine rescue teams to two teams with three members each and one alternate who serves both teams, instead of having two mine rescue teams with five members and one alternate. This is considered an acceptable alternative method for the Robert L. Derck Mine. MSHA grants the petition for modification for the Robert L. Derck Mine with conditions.

FR Notice: 65 FR 40140.

Petitioner: Three W. M. U. G Mine Company.

[Docket No.: M-2000-063-C]

Regulation Affected: 30 CFR 49.2(b).

Summary of Findings: Petitioner's proposal is to reduce its mine rescue teams to two teams with three members each and one alternate who serves both teams, instead of having two mine rescue teams with five members and one alternate. This is considered an acceptable alternative method for the Orchard Slope Mine. MSHA grants the petition for modification for the Orchard Slope Mine with conditions.

FR Notice: 65 FR 40140.

Petitioner: Snyder Coal Company.

[Docket No.: M-2000-065-C]

Regulation Affected: 30 CFR 49.2(b).

Summary of Findings: Petitioner's proposal is to reduce its mine rescue teams to two teams with three members each and one alternate who serve both teams, instead of having two mine rescue teams with five members and one alternate. This is considered an acceptable alternative method for the Rattling Run Mine. MSHA grants the petition for modification for the Rattling Run Mine with conditions.

FR Notice: 65 FR 40140.

Petitioner: Snyder Coal Company.

[Docket No.: M-2000-066-C]

Regulation Affected: 30 CFR 49.2(b).

Summary of Findings: Petitioner's proposal is to reduce its mine rescue teams to two teams with three members each and one alternate who serves both teams, instead of having two mine rescue teams with five members and one alternate. This is considered an acceptable alternative method for the N. & L. Slope Mine. MSHA grants the petition for modification for the N. & L. Slope Mine with conditions.

FR Notice: 65 FR 40140.

Petitioner: S & M Coal Company.

[Docket No.: M-2000-067-C]

Regulation Affected: 30 CFR 49.2(b).

Summary of Findings: Petitioner's proposal is to reduce its mine rescue teams to two teams with three members each and one alternate who serves both teams, instead of having two mine rescue teams with five members and one alternate. This is considered an acceptable alternative method for the Buck Mountain Slope Mine. MSHA grants the petition for modification for the Buck Mountain Slope Mine with conditions.

FR Notice: 65 FR 40140.

Petitioner: R S & W Coal Company, Inc.

[Docket No.: M-2000-068-C]

Regulation Affected: 30 CFR 49.2(b).

Summary of Findings: Petitioner's proposal is to reduce its mine rescue teams to two teams with three members each and one alternate who serves both teams, instead of having two mine rescue teams with five members and one alternate. This is considered an acceptable alternative method for the R. S. & W. Drift Mine. MSHA grants the petition for modification for the R. S. & W. Drift Mine with conditions.

FR Notice: 65 FR 40140.

Petitioner: Rhen Coal Company.

Docket No.: M-2000-069-C]

Regulation Affected: 30 CFR 49.2(b).

Summary of Findings: Petitioner's proposal is to reduce its mine rescue teams to two teams with three members each and one alternate who serves both teams, instead of having two mine rescue teams with five members and one alternate. This is considered an acceptable alternative method for the Skidmore Slope Mine. MSHA grants the petition for modification for the Skidmore Slope Mine with conditions.

FR Notice: 65 FR 40140.

Petitioner: R & D Coal Company.

[Docket No.: M-2000-070-C]

Regulation Affected: 30 CFR 49.2(b).

Summary of Findings: Petitioner's proposal is to reduce its mine rescue teams to two teams with three members each and one alternate who serves both teams, instead of having two mine rescue teams with five members and one alternate. This is considered an acceptable alternative method for the Buck Mt. Slope Mine. MSHA grants the petition for modification for the Buck Mt. Slope Mine with conditions.

FR Notice: 65 FR 40140.

Petitioner: Primrose Coal Company No. 2.

[Docket No.: M-2000-071-C]

Regulation Affected: 30 CFR 49.2(b).

Summary of Findings: Petitioner's proposal is to reduce its mine rescue teams to two teams with three members each and one alternate who serves both teams, instead of having two mine rescue teams with five members and one alternate. This is considered an acceptable alternative method for the Buck Mountain Vein Slope Mine. MSHA grants the petition for modification for the Buck Mountain Vein Slope Mine with conditions.

FR Notice: 65 FR 40140.

Petitioner: Nowacki Coal Company.

[Docket No.: M-2000-072-C]

Regulation Affected: 30 CFR 49.2(b).

Summary of Findings: Petitioner's proposal is to reduce its mine rescue teams to two teams with three members each and one alternate who serves both teams, instead of having two mine rescue teams with five members and one alternate. This is considered an acceptable alternative method for the Nowacki Coal Co. Slope Mine. MSHA grants the petition for modification for the Nowacki Coal Co. Slope Mine with conditions.

FR Notice: 65 FR 40140.

Petitioner: Little Rock Coal Company.

[Docket No.: M-2000-0074-C]

Regulation Affected: 30 CFR 49.2(b).

Summary of Findings: Petitioner's proposal is to reduce its mine rescue teams to two teams with three members each and one alternate who serves both teams, instead of having two mine rescue teams with five members and one alternate. This is considered an acceptable alternative method for the No. 1 Slope Mine. MSHA grants the petition for modification for the No. 1 Slope Mine with conditions.

FR Notice: 65 FR 40140.

Petitioner: Little Buck Coal Company.

[Docket No.: M-2000-075-C]

Regulation Affected: 30 CFR 49.2(b).

Summary of Findings: Petitioner's proposal is to reduce its mine rescue teams to two teams with three members each and one alternate who serves both teams, instead of having two mine rescue teams with five members and one alternate. This is considered an acceptable alternative method for the #3 Slope Buck Mtn. Mine. MSHA grants the petition for modification for the #3 Slope Buck Mtn. Mine with conditions.

FR Notice: 65 FR 40140.

Petitioner: Jordan Coal Company.

[Docket No.: M-2000-076-C]

Regulation Affected: 30 CFR 49.2(b).

Summary of Findings: Petitioner's proposal is to reduce its mine rescue teams to two teams with three members each and one alternate who serves both teams, instead of having two mine rescue teams with five members and one alternate. This is considered an acceptable alternative method for the Jordan #1 Slope Mine. MSHA grants the petition for modification for the Jordan #1 Slope Mine with conditions.

FR Notice: 65 FR 40140.

Petitioner: Joliett Coal Company.

[Docket No.: M-2000-077-C]

Regulation Affected: 30 CFR 49.2(b).

Summary of Findings: Petitioner's proposal is to reduce its mine rescue teams to two teams with three members each and one alternate who serves both teams, instead of having two mine rescue teams with five members and one alternate. This is considered an acceptable alternative method for the #3 Vein Slope Mine. MSHA grants the petition for modification for the #3 Vein Slope Mine with conditions.

FR Notice: 65 FR 40140.

Petitioner: R & R Coal Company (Formerly B & L Coal Co.).

[Docket No.: M-2000-079-C]

Regulation Affected: 30 CFR 49.2(b).

Summary of Findings: Petitioner's proposal is to reduce its mine rescue teams to two teams with three members each and one alternate who serves both teams, instead of having two mine rescue teams with five members and one alternate. This is considered an acceptable alternative method for the R & R Coal Company Mine. MSHA grants the petition for modification for the R & R Coal Company Mine with conditions.

FR Notice: 65 FR 40140.

Petitioner: F. K. Z. Coal Company.

[Docket No.: M-2000-080-C]

Regulation Affected: 30 CFR 49.2(b).

Summary of Findings: Petitioner's proposal is to reduce its mine rescue teams to two teams with three members each and one alternate who serves both teams, instead of having two mine rescue teams with five members and one alternate. This is considered an acceptable alternative method for the No. 1 Slope Mine. MSHA grants the petition for modification for the No. 1 Slope Mine with conditions.

FR Notice: 65 FR 40140.

Petitioner: D & D Company.

[Docket No.: M-2000-082-C]

Regulation Affected: 30 CFR 49.2(b).

Summary of Findings: Petitioner's proposal is to reduce its mine rescue teams to two teams with three members each and one alternate who serves both teams, instead of having two mine rescue teams with five members and one alternate. This is considered an acceptable alternative method for the Primrose Slope Mine. MSHA grants the petition for modification for the Primrose Slope Mine with conditions.

FR Notice: 65 FR 40140.

Petitioner: Chestnut Coal Company.

[Docket No.: M-2000-083-C]

Regulation Affected: 30 CFR 49.2(b).

Summary of Findings: Petitioner's proposal is to reduce its mine rescue teams to two teams with three members each and one alternate who serves both teams, instead of having two mine rescue teams with five members and one alternate. This is considered an acceptable alternative method for the No. 10 Slope Mine. MSHA grants the petition for modification for the No. 10 Slope Mine with conditions.

FR Notice: 65 FR 49017.

Petitioner: Pine Ridge Coal Company.

[Docket No.: M-2000-085-C]

Regulation Affected: 30 CFR 75.1002.

Summary of Findings: Petitioner's proposal is to modify its previously granted petition for modification, docket number M-98-004-C, to allow 2,400 volt cables to be used inby the last open crosscut at the working continuous miner sections at the Pine Ridge Coal Company, Robin Hood No. 9 Mine (I.D. No. 46-02143), be transferred to its Whites Branch Mine (I.D. No. 46-08827). This is considered an acceptable alternative method for the Pine Ridge Coal Company, Whites Branch Mine. MSHA grants the petition for modification for the 2,400-volt continuous miner system(s) used at the Whites Branch Mine with conditions, and grants application for relief to give effect to September 12, 2000, proposed decision and order.

FR Notice: 65 FR 49017.

Petitioner: The Pittsburgh & Midway Coal Mining Company.

[Docket No.: M-2000-087-C]

Regulation Affected: 30 CFR 75.1700.

Summary of Findings: Petitioner's proposal is to plug and abandon oil and gas wells, and mine through the oil and gas wells with a longwall mining machine instead of maintaining a 300-foot barrier around the well. This is considered an acceptable alternative method for the North River No. 1 Mine. MSHA grants the petition for modification for the North River No. 1 Mine with conditions.

FR Notice: 65 FR 49018.

Petitioner: 3-D Management Services, Inc.

[Docket No.: M-2000-092-C]

Regulation Affected: 30 CFR 75.503.

Summary of Findings: Petitioner's proposal is to use a spring-loaded device on battery plug connectors on mobile battery-powered machines to prevent the plug connector from accidently disengaging while under load instead of using padlocks. This is considered an acceptable alternative method for the Campbells Creek #5 Mine. MSHA grants the petition for modification for the Campbells Creek #5 Mine with conditions.

FR Notice: 65 FR 58821.

Petitioner: Marfork Coal Co., Inc.

[Docket No.: M-2000-121-C]]

Regulation Affected: 30 CFR 75.1002.

Summary of Findings: Petitioner's proposal is to use high-voltage (2,400-volt) cables to power longwall mining equipment. This is considered an acceptable alternative method for the Coon Cedar Grove Mine. MSHA grants the petition for modification for the 2,400-volt continuous miner system(s) at the Coon Cedar Grove Mine with conditions.

Petitioner: D & A Resources, Inc.

[Docket No.: M-2000-122-C]

FR Notice: 65 FR 64261.

Regulation Affected: 30 CFR 75.503.

Summary of Findings: Petitioner's proposal is to use a threaded ring and a spring-loaded device on battery plug connectors on mobile battery-powered machines to prevent the plug connector from accidently disengaging while under load instead of using padlocks. This is considered an acceptable alternative method for the Mine No. 4. MSHA grants the petition for modification for the Mine No. 4 with conditions.

Petitioner: Magic Coal Company.

[Docket No.: M-2000-130-C]

FR Notice: 65 FR 64262.

Regulation Affected: 30 CFR 75.503.

Summary of Findings: Petitioner's proposal is to use a threaded ring and a spring-loaded device on battery plug connectors on mobile battery-powered machines to prevent the plug connector from accidently disengaging while under load instead of using padlocks. This is considered an acceptable alternative method for the Magic Mine. MSHA grants the petition for modification for the Magic Mine with conditions.

Petitioner: Peabody Coal Company.

[Docket No.: M-2000-133-C]

FR Notice: 65 FR 64262.

Regulation Affected: 30 CFR 75.503.

Summary of Findings: Petitioner's proposal is to use a spring-loaded metal locking device to secure battery connecting plugs to machine-mounted battery receptacles on permissible mobile battery-powered scoop cars and tractors to prevent the cable plug from inadvertently disengaging from the receptacle instead of using padlocks. This is considered an acceptable alternative method for the Camp #11 Mine. MSHA grants the petition for modification for the Camp #11 Mine with conditions.

Petitioner: Consolidation Coal Company.

[Docket No.: M-1999-023-C]

FR Notice: 64 FR 25517.

Regulation Affected: 30 CFR 75.364(b)(2).

Summary of Findings: Petitioner's proposal is to establish evaluation points A and B to measure air and gas due to hazardous conditions in certain areas of the return air course, to maintain the evaluation points in good condition at all times, and to have a certified person test for methane and the quantity of air on a weekly basis and record the results, date, time, and his/her initials in a book kept on the surface, available for inspection by interested persons. This is considered an acceptable alternative method for the Rend Lake Mine. MSHA grants the petition for modification for the unsafe-to-travel segment (approximately 250 feet) of the 2 West Mains and North Mains return air course Mine with conditions.

Petitioner: Snyder Coal Company.

[Docket No.: M-1999-031-C]

FR Notice: 64 FR 32551.

Regulation Affected: 30 CFR 75.364(b)(1), (4), and (5).

Summary of Findings: Petitioner's proposal is to travel and thoroughly preshift examine the intake haulage slope and primary escapeway areas from the gunboat/slope car at the section's intake gangway level with an alternative air quality evaluation, and have the examiner record the results of these examinations in a book kept on the surface, instead of conducting daily or weekly examinations, due to significant fall hazards. This is considered an acceptable alternative method for the Rattling Run Slope Mine. MSHA grants the petition for modification for the Rattling Run Slope Mine with conditions.

Petitioner: Snyder Coal Company.

[Docket No.: M-1999-032-C]

FR Notice: 64 FR 32552.

Regulation Affected: 30 CFR 75.1100-2.

Summary of Findings: Petitioner's proposal is to use portable fire extinguishers where rock dust, water cars, and other water storage equipped with three 10 quart pails is not practical. The petitioner proposes to use two portable fire extinguishers near the slope bottom and an additional portable fire extinguisher within 500 feet of the working face. This is considered an acceptable alternative method for the Rattling Run Slope Mine. MSHA grants the petition for modification for the Rattling Run Slope Mine with conditions.

Petitioner: Canyon Fuel Company, LLC.

[Docket No.: M-1999-049-C]

FR Notice: 64 FR 41139.

Regulation Affected: 30 CFR 75.350.

Summary of Findings: Petitioner's proposal is to use belt air to ventilate working places in areas of the mine where two-entry mining system is not used. The petitioner proposes to install a low-level carbon monoxide monitoring system as an early warning fire detection system in all belt entries used as intake air courses. This is considered an acceptable alternative method for the Dugout Canyon Mine. MSHA grants the petition for modification to allow air coursed through conveyor belt entries to be used to ventilate working places, in sections of the mine that do not use a two-entry mining system, for the Dugout Canyon Mine with conditions.

Petitioner: Coal Miners, Inc.

[Docket No.: M-1999-50-C]

FR Notice: 64 FR 41139.

Regulation Affected: 30 CFR 75.350.

Summary of Findings: Petitioner's proposal is to use air coursed through belt haulage entries to ventilate active working places. The petitioner proposes to install a low-level carbon monoxide detection system as an early warning fire detection system in the supply road with branches extended to the beltline at certain locations. This is considered an acceptable alternative method for the Eagle Valley Mine. MSHA grants the petition for modification for the Eagle Valley Mine with conditions.

Petitioner: Consolidation Coal Company.

[Docket No.: M-1999-055-C]

FR Notice: 64 FR 41139.

Regulation Affected: 30 CFR 75.364(b)(4).

Summary of Findings: The Petitioner's proposal is to establish evaluation check points to conduct weekly examinations for methane in certain areas of the return air course, to use a smoke tube to verify the direction of air flow, and instruct the examiner to record the results of the examinations in a record book kept on the surface available to interested parties. This is considered an acceptable alternative method for the Shoemaker Mine. MSHA grants the petition for modification for the Shoemaker Mine with conditions.

Petitioner: Canyon Fuel Company, LLC.

[Docket No.: M-1999-057-C]

FR Notice: 64 FR 41140.

Regulation Affected: 75.360(b)(9).

Summary of Findings: Petitioner's proposal is to install an Atmospheric Monitoring System (AMS) for continuous monitoring of electrical installations for carbon monoxide and methane instead of conducting a preshift examination. This is considered an acceptable alternative method for the SUFCO Mine. MSHA grants the petition for modification for the preshift examination of remote electrical installations and compressors serving mine de-watering pump installations conducted by pumpers who are certified mine examiners at the SUFCO Mine with conditions.

Petitioner: Canyon Fuel Company, LLC.

[Docket No.: M-1999-073-C]

FR Notice: 64 FR 49247.

Regulation Affected: 30 CFR 75.1909(b)(6).

Summary of Findings: Petitioner's proposal is to use an alternate method in lieu of front wheel brakes on its diesel graders at the Skyline Mine No. 3, Dugout Canyon Mine, and SUFCO Mine. The petitioner proposes to limit the speed of the diesel graders to 10 miles per hour by blocking out gear ratios that provide a higher speed, and to train the grader operators to drop the grader blade in the event the brakes fail. This is considered an acceptable alternative method for the Skyline Mine No. 3, Dugout Canyon Mine, and the SUFCO Mine. MSHA grants the petition for modification for the Skyline Mine No. 3, Dugout Canyon Mine, and the SUFCO Mine with conditions.

Petitioner: Bowie Resources Limited.

[Docket No.: M-1999-100-C]

FR Notice: 64 FR 57663.

Regulation Affected: 30 CFR 75.1909(b)(6)

Summary of Findings: Petitioner's proposal is to use an alternate method in lieu of front wheel brakes on diesel graders used at the Bowie No. 2 Mine. The petitioner proposes to limit the speed of the graders to 10 miles per hour by block welding a steel stop bar across the gear selector slot to the 5th and 6th gears, and train the diesel grader operators to drop the grader blade in the event the brakes fail and on how to recognize the appropriate speeds to use on different roadway and slope conditions. This is considered an acceptable alternative method for the Bowie No. 2 Mine. MSHA grants the petition for modification for the Bowie No. 2 Mine with conditions.

Petitioner: Wabash Mine Holding Company.

[Docket No.: M-1999-107-C]

FR Notice: 64 FR 70054.

Regulation Affected: 30 CFR 75.1909(b)(6).

Summary of Findings: Petitioner's proposal is to use an alternate method in lieu of the front wheel brakes on diesel graders. The petitioner proposes to equip diesel graders with devices that limit the speed of the diesel graders to 10 miles per hour and to train the diesel grader operators to drop the grader blade in the event the brakes fail. This is considered an acceptable alternative method for the Wabash Mine. MSHA grants the petition for modification for the Wabash Mine with conditions.

Petitioner: Blue Mountain Energy, Inc.

[Docket No.: M-1999-109-C]

FR Notice: 64 FR 70054.

Regulation Affected: 30 CFR 75.1909(b)(6).

Summary of Findings: Petitioner's proposal is to use an alternate method in lieu of the front wheel brakes on diesel graders. The petitioner proposes to equip diesel graders with devices that limit the speed of the diesel graders to 10 miles per hour and to train the diesel grader operators to drop the grader blade in the event the brakes fail. This is considered an acceptable alternative method for the Deserado Mine. MSHA grants the petition for modification for the Deserado Mine with conditions.

Petitioner: Black Beauty Coal Company.

[Docket No.: M-1999-110-C]

FR Notice: 64 FR 70054.

Regulation Affected: 30 CFR 75.1909(b)(6).

Summary of Findings: Petitioner's proposal is to use an alternate method in lieu of the front wheel brakes on diesel graders. The petitioner proposes to limit the speed of the diesel graders to 10 miles per hour and to train the diesel grader operators to drop the grader blade in the event the brakes fail. This is considered an acceptable alternative method for the Air Quality #1 Mine. MSHA grants the petition for modification for the Air Quality #1 Mine with conditions.

Petitioner: Consolidation Coal Company.

[Docket No.: M-1999-119-C]

FR Notice: 64 FR 70055.

Regulation Affected: 30 CFR 75.312(c) and (d).

Summary of Findings: Petitioner's proposal is to test automatic closing doors and automatic fan signal devices every 31 days without shutting down the fan and without removing miners from the mine. This is considered an acceptable alternative method for the Shoemaker Mine. MSHA grants the petition for modification for the Shoemaker Mine for tests of: (1) The automatic fan stoppage signal device; and (2) the automatic closing air flow reversal prevention doors to be performed without shutting down the mine fan, and without removing the miners from the mine with conditions.

Petitioner: Plateau Mining Company.

[Docket No.: M-1999-137-C]

FR Notice: 64 FR 1914.

Regulation Affected: 30 CFR 75.1909(b)(6).

Summary of Findings: Petitioner's proposal is to use an alternative method in lieu of the front wheel brakes on diesel graders. The petitioner proposes to equip diesel graders with devices that limit the speed of the diesel graders to 10 miles per hour, and to train the diesel grader operators to drop the grader blade in the event the brakes fail. This is considered an acceptable alternative method for the Willow Creek Mine. MSHA grants the petition for modification for the Willow Creek Mine with conditions.

Petitioner: Lodestar Energy, Inc.

[Docket No.: M-1999-141-C]

FR Notice: 65 FR 1914.

Regulation Affected: 30 CFR 75.1909(b)(6).

Summary of Findings: Petitioner's proposal is to use an alternative method in lieu of the front wheel brakes on diesel graders. The petitioner proposes to equip the diesel grader with devices that limit the speed of the diesel grader to 10 miles per hour, and to train the diesel grader operators to drop the grader blade in the event the brakes fail. This is considered an acceptable alternative method for the Baker Mine. MSHA grants the petition for modification for the Baker Mine with conditions.

Petitioner: Mallie Coal Company, Inc.

[Docket No.: M-98-091-C]

FR Notice: 64 FR 2519.

Regulation Affected: 30 CFR 75.380(f)(4).

Summary of Findings: Petitioner's proposal is to use one twenty or two ten-pound portable chemical fire extinguishers on each Mescher Jeep. The petitioner proposes to install one fire extinguisher in the operator's deck if two fire extinguishers are used, and install the other fire extinguisher on the jeep readily accessible to the operator. If one fire extinguisher is used, it will be installed in the operator's deck. A total of twenty pounds of fire extinguisher capability will be carried on each jeep and the operator will inspect each fire extinguisher daily prior to entering the mine. This is considered an acceptable alternative method for the Mine No. 4. MSHA grants the petition for modification for the Mine No. 4 with conditions.

[FR Doc. 01-13042 Filed 5-22-01; 8:45 am]

BILLING CODE 4510-43-U